DEPARTMENT OF STATE

22 CFR Part 126

[Public Notice: 5570]

Amendment to the International Traffic in Arms Regulations: Partial Lifting of Arms Embargo Against Haiti

AGENCY: Department of State.

ACTION: Final rule.

SUMMARY: The Department of State is amending the International Traffic in Arms Regulations to reflect modifications to the U.S. arms embargo against Haiti. The embargo is revised to permit exports of defense articles and services that are destined for security units under the command of the Government of Haiti, or under the command of the United Nations (UN) and UN-authorized missions, and to allow exports of personal protective clothing, including flak jackets and helmets, for use by personnel from the United Nations and other international organizations, representatives of the media, and development workers and associated personnel.

EFFECTIVE DATE: October 4, 2006.

ADDRESSES: Interested parties may submit comments at any time by any of the following methods:

• E-mail: DDTCResponseTeam@state.gov with an appropriate subject line.

• Mail: Department of State, Directorate of Defense Trade Controls, Office of Defense Trade Controls Policy, ATTN: Regulatory Change, 12th Floor, SA-1, Washington, DC 20522-0112.

• Fax: 202-261-8199.

• Hand Delivery or Courier (regular work hours only): Department of State, Directorate of Defense Trade Controls, Office of Defense Trade Controls Policy, ATTENTION: Regulatory Change, SA-1, 12th Floor, 2401 E Street, NW., Washington, DC 20037.

Persons with access to the Internet may also view this notice by going to the regulations.gov Web site at: http://www.regulations.gov/index.cfm. Comments will be accepted at any time.

FOR FURTHER INFORMATION CONTACT: Ann Ganzer, Office of Defense Trade Controls Policy, Department of State, 12th Floor, SA-1, Washington DC 20522-0112; Telephone 202-663-2792 or FAX 202-261-8199; e-mail: DDTCResponseTeam@state.gov. ATTN: Regulatory Change.

SUPPLEMENTARY INFORMATION: On October 9, 1991 the United States suspended all previously issued license and approvals authorizing the export of or other transfers of defense articles and services to Haiti, and instituted a policy of denial for future applications for licenses and other approvals to export or otherwise transfer defense articles and services to Haiti. This step was taken after the overthrow by the Haitian military of the democratically elected government of Haiti. In 1993 the United Nations Security Council imposed an arms embargo against Haiti, and on April 4, 1994 Section 126.1(a) of the International Traffic in Arms Regulations was amended to list Haiti as a country subject to United States embargo. The United Nations lifted its embargo in 1994 but the United States embargo was maintained for foreign policy reasons.

In view of developments in Haiti, to include the inauguration of a democratically elected president, the U.S. embargo is being revised to permit exports of defense articles and services that are destined for security units under the command of the Government of Haiti, or under the command of the United Nations (UN) and UN-authorized missions, as well as exports of personal protective clothing, including flak jackets and helmets, for use by personnel from the United Nations and other international organizations, representatives of the media, and development workers and associated personnel.

The Department of State is amending the International Traffic in Arms Regulations by removing Haiti from the list of countries identified as subject to a United States arms embargo at 22 CFR 126.1(a) and by adding paragraph (j) to 22 CFR 126.1 to clarify the modifications to the policy regarding Haiti.

Regulatory Analysis and Notices

Administrative Procedure Act

This amendment involves a foreign affairs function of the United States and, therefore, is not subject to the procedures required by 5 U.S.C. 553 and 554.

Regulatory Flexibility Act

This rule does not require analysis under the Regulatory Flexibility Act.

Unfunded Mandates Act of 1995

This rule does not require analysis under the Unfunded Mandates Reform Act.

Small Business Regulatory Enforcement Fairness Act of 1996

This amendment has been found not to be a major rule within the meaning of the Small Business Regulatory Enforcement Fairness Act of 1996. It will not have substantial direct effects on the States, the relationship between the national Government and the States, or on the distribution of power and responsibilities among the various levels of government.

Executive Orders 12372 and 13132

It is determined that this rule does not have sufficient federalism implications to warrant application of the consultation provisions of Executive Orders 12372 and 13132.

Executive Order 12866

This amendment is exempt from review under Executive Order 12866, but has been reviewed internally by the Department of State to ensure consistency with the purposes thereof.

Paperwork Reduction Act

This rule does not impose any new reporting or recordkeeping requirements subject to the Paperwork Reduction Act, 44 U.S.C. Chapter 35.

List of Subjects in 22 CFR Part 126

Arms and munitions, Exports.

Accordingly, for the reasons set forth above, Title 22, Chapter I, Subchapter M, part 126 is amended as follows:

PART 126—GENERAL POLICIES AND PROVISIONS

1. The authority citation for part 126 continues to read as follows:

Authority: Secs. 2, 38, 40, 42, and 71, Pub. L. 90-629, 90 Stat. 744 (22 U.S.C. 2752, 2778, 11958, 2791, and 2797); 22 U.S.C. 2778; E.O. 11958, 42 FR 4311; 3 CFR, 1977 Comp., p. 79; 22 U.S.C. 2651a; 22 U.S.C. 287c; E.O. 12918, 59 FR 28205, 3 CFR, 1994 Comp., p. 899; Sec.1225, Pub. L. 108-375.

2. Section 126.1 is amended by revising paragraph (a) to read as follows and adding paragraph (j):

§ 126.1 Prohibited exports and sales to certain countries.

(a) General. It is the policy of the United States to deny licenses and other approvals for exports and imports of defense articles and defense services, destined for or originating in certain countries. This policy applies to Belarus, Cuba, Iran, Libya, North Korea, Syria and Vietnam. This policy also applies to countries with respect to which the United States maintains an arms embargo (e.g., Burma, China, Liberia, Somalia, and Sudan) or whenever an export would not otherwise be in furtherance of world peace and the security and foreign policy of the United States. Information regarding certain other embargoes appears elsewhere in this section. Comprehensive arms embargoes are normally the subject of a State Department notice published in the Federal Register. The exemptions provided in the regulations in this subchapter, except § 123.17 of this subchapter, do not apply with respect to articles originating in or for export to any proscribed countries, areas, or persons in this § 126.1.

* * * * *

(j) Haiti. It is the policy of the United States to deny licenses, other approvals, exports or imports of defense articles and defense services, destined for or originating in Haiti. A denial policy will remain for exports or imports of defense articles and defense services destined for or originating in Haiti except, on a case-by-case basis, for supplies of arms and related materials or technical training and assistance intended solely for the support of or use by security units that operate under the command of the Government of Haiti, supplies of arms and related materials for technical training and assistance intended solely for the support of or use by the United Nations or a United Nations-authorized mission, and personal protective clothing, including flak jackets and helmets, for use by personnel from the United Nations and other international organizations, representatives of the media, and development workers and associated personnel. All shipments of arms and related materials consistent with such exemptions shall only be made to Haitian security units as designated by the Government of Haiti, in coordination with the U.S. Government.

Dated: August 31, 2006.
Robert G. Joseph,
Under Secretary for Arms Control and International Security, Department of State.

[FR Doc. E6-16386 Filed 10-3-06; 8:45 am]

BILLING CODE 4710-25-P